INTERNATIONAL TRADE COMMISSION

[USITC SE-04-022]

Sunshine Act Meeting Notice

AGENCY: United States International Trade Commission.

Time and Date: August 23, 2004, at 11 a.m.

Place: Room 101, 500 E Street, SW., Washington, DC 20436, telephone: (202) 205-2000.

Status: Open to the public.

Matters to be Considered: 1. Agenda for future meetings: none.

2. Minutes.

3. Ratification List.

4. Inv. No. 731-TA-208 (Second Review)(Barbed Wire and Barbless Wire Strand from Argentina)—briefing and vote. (The Commission is currently scheduled to transmit its determination and Commissioners' opinions to the Secretary of Commerce on or before August 30, 2004.)

5. Outstanding action jackets: none.

In accordance with Commission policy, subject matter listed above, not disposed of at the scheduled meeting, may be carried over to the agenda of the following meeting.

By order of the Commission.
Issued: August 4, 2004.
Marilyn R. Abbott,
Secretary to the Commission.

[FR Doc. 04-18111 Filed 8-4-04; 11:24 am]

BILLING CODE 7020-02-P